DEPARTMENT OF JUSTICE

Office of Justice Programs

[OJP (NIJ) Docket No. 1546]

NIJ Request for Comments on Draft Vehicular Digital Multimedia Evidence Recording System Certification Program Requirements for Law Enforcement and Draft Law Enforcement Vehicular Digital Multimedia Evidence Recording System Selection and Application Guide

AGENCY: National Institute of Justice, DOJ.

ACTION: Notice and request for comments.

SUMMARY: In an effort to obtain comments from interested parties, the U.S. Department of Justice, Office of Justice Programs, National Institute of Justice (NIJ) will make available to the general public two draft documents:

• “Vehicular Digital Multimedia Evidence Recording System Certification Program Requirements for Law Enforcement”

• “Law Enforcement Vehicular Digital Multimedia Evidence Recording System Selection and Application Guide”

The opportunity to provide comments on these documents is open to industry technical representatives, law enforcement agencies and organizations, research, development and scientific communities, and all other stakeholders and interested parties. Those individuals wishing to obtain and provide comments on the draft documents under consideration are directed to the following Web site: http://www.justnet.org.

DATES: The comment period will be open until April 25, 2011.

FOR FURTHER INFORMATION CONTACT: Casandra Robinson, by telephone at 202-305-2596 [Note: this is not a toll-free telephone number], or by e-mail at casandra.robinson@usdoj.gov.

John H. Laub,
Director, National Institute of Justice.

[FR Doc. 2011-5700 Filed 3-10-11; 8:45 am]

BILLING CODE 4410-18-P